DEPARTMENT OF THE INTERIOR

Fish and Wildlife Service

Receipt of Application for Endangered Species Permit

AGENCY: Fish and Wildlife Service, Interior.

ACTION: Notice of Receipt of Application for Endangered Species Permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to “kenneth_graham@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written data or comments on these applications must be received, at the address given below, by March 3, 2000.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Ken Graham, Permit Biologist). Telephone: 404/679-7358; Facsimile: 404/679-7081.

FOR FURTHER INFORMATION CONTACT: Ken Graham, Telephone: 404/679-7358; Facsimile: 404/679-7081.

SUPPLEMENTARY INFORMATION: Applicant: Frances C. James, Florida State University, Tallahassee, Florida, TE020826-0.

The applicant requests authorization to take (harass during nest monitoring, temporary nest occlusion research, and stomach flush/dietary analysis research) the endangered red-cockaded woodpecker, Picoides borealis, on the Apalachicola National Forest, in Leon, Liberty, and Wakulla Counties, Florida for the purpose of enhancement of survival of the species.

Applicant: Forest Supervisor, National Forests in North Carolina, Asheville, North Carolina, TE020891-0.

The applicant requests authorization to take (capture, band, and harass during nest monitoring and construction of artificial cavities) the endangered red-cockaded woodpecker, Picoides borealis, throughout the species range in North Carolina, for the purpose of enhancement of survival of the species.

Applicant: Forest Supervisor, National Forests in Mississippi, Jackson, Mississippi, TE020890-0.

The applicant requests authorization to take (capture, band, translocate, and harass during nest monitoring, construction of artificial cavities, placement of restrictor plates, and augmentation) the endangered red-cockaded woodpecker, Picoides borealis, throughout the species range in Mississippi, for the purpose of enhancement of survival of the species.

Applicant: Stanley B. Rudzinski, Jr., Law Engineering and Environmental Consultants, Nashville, Tennessee, TE021030-0.

The applicant requests authorization to take (capture, identify, and relocate) the endangered Nashville Crayfish, Orconectes shoupi, throughout the species range in Tennessee, for the purpose of enhancement of survival of the species.

Applicant: Nancy E. Jordan, South Carolina Cooperative Fish and Wildlife Research Unit, Clemson University, Clemson, South Carolina, TE022019-0.

The applicant requests authorization to take (capture, band, monitor and collect unhatched eggs for hatching success research) the endangered red-cockaded woodpecker, Picoides borealis, in the Norfolk Southern Railroad Brosnan Forest, South Carolina, for the purpose of enhancement of survival of the species.

Applicant: Kimberly Morgan Hicks, Oxford, North Carolina, TE022046-0.

The applicant requests authorization to take (capture, identify, and release) five species of endangered freshwater molluscs throughout the species' ranges in North Carolina and South Carolina, for the purpose of enhancement of survival of the species.

Applicant: Peter G. David, South Florida Water Management District, Canal Point, Florida, TE020654-0.

The applicant requests authorization to take (capture, band, translocate, and harass during nest monitoring and augmentation) the endangered red-cockaded woodpecker, Picoides borealis, throughout the species range in Florida for the purpose of enhancement of survival of the species.

Dated: January 26, 2000.
H. Dale Hall,
Acting Regional Director.

[FR Doc. 00-2215 Filed 2-1-00; 8:45 am]

BILLING CODE 4310-55-P